DEPARTMENT OF COMMERCE

Census Bureau

Proposed Information Collection; Comment Request; Quarterly Survey of Plant Capacity Utilization

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before April 13, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Mary Susan Bucci, U.S. Census Bureau, Economic Reimbursable Surveys Division, Room 7K039, Washington, DC 20233, (301) 763-4639 (or via the Internet at Mary.Susan.Bucci@census.gov).

SUPPLEMENTARY INFORMATION:

I. Abstract

The Census Bureau plans to continue the current OMB clearance for the Quarterly Survey of Plant Capacity Utilization (SPC). The SPC is conducted quarterly, collecting from manufacturing plants and publishers, the value of actual production, the value of production that could have been achieved if operating at “full production” levels, and the value of production that could have been achieved if operating at “national emergency” levels. The survey also collects data on work patterns by shift. These data include hours in operation, production workers, and plant hours worked.

The primary users of these data will be the Federal Reserve Board (FRB) and the Defense Logistics Agency (DLA). The FRB will use these data in several ways. First, the capital workweek data will be used as an indicator of capital use in the estimation of monthly output (industrial production). Second, the workweek data will be used to improve the projections of labor productivity that are used to align industrial production (IP) with comprehensive benchmark information in the Economic Census, Manufacturing and Annual Survey of Manufactures. Third, the utilization rate data will assist in the assessment of recent changes in IP, as most of the high-frequency movement in utilization rates reflect production changes rather than capacity changes. Fourth, the time series of utilization rate data for each industry, in combination with the FRB IP data, will be used to estimate current and historical measures of capacity consistent with the FRB production measures. The DLA will use these data to assess readiness to meet demand for goods under selected national emergency scenarios.

II. Method of Collection

The Census Bureau will use the mail out/mail back survey forms to collect the data. We also offer an electronic version of the form for reporting via the Internet. Information for reporting online is included on the form. Companies will be asked to respond within 20 days of the initial mailing. This due date will be imprinted at the top of the form. Letters encouraging participation will be mailed to companies that have not responded by the designated time. Subsequent to the letter, we will conduct a telephone follow-up.

III. Data

OMB Control Number: 0607-0175.

Form Number: MQ-C2.

Type of Review: Regular submission.

Affected Public: Manufacturing and publishing plants.

Estimated Number of Respondents: 7,500 per quarter.

Estimated Time per Response: 2 hours and 5 minutes.

Estimated Total Annual Burden Hours: 62,500.

Estimated Total Annual Cost: $0.

Respondent's Obligation: Voluntary.

Legal Authority: Title 13 U.S. Code, Sections 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 6, 2015.
Glenna Mickelson,
Management Analyst, Office of the Chief Information Officer.

[FR Doc. 2015-02867 Filed 2-11-15; 8:45 am]

BILLING CODE 3510-07-P